DEPARTMENT OF HEALTH AND HUMAN SERVICES

Centers for Disease Control and Prevention

Advisory Committee on Breast Cancer in Young Women (ACBCYW)

AGENCY: Centers for Disease Control and Prevention (CDC), Department of Health and Human Services (HHS).

ACTION: Notice of meeting.

SUMMARY: In accordance with the Federal Advisory Committee Act, the CDC announces the following meeting for the Advisory Committee on Breast Cancer in Young Women (ACBCYW). This meeting is open to the public, limited only by audio phone lines (100 audio lines available and 100 web conference lines available).

DATES: The meeting will be held on August 6, 2018, 1:00 p.m. to 5:00 p.m., EDT. Registration must be submitted no later than July 31, 2018 (See SUPPLEMENTARY INFORMATION for how to register).

ADDRESSES: The public is also welcome to listen to the meeting by accessing the call-in number, 1-888-989-0726, passcode, 5698676 (100 lines are available). The web conference access is https://adobeconnect.cdc.gov/r1hixcynbai/. Online registration is required (See SUPPLEMENTARY INFORMATION for how to register).

FOR FURTHER INFORMATION CONTACT: Temeika L. Fairley, Ph.D., Designated Federal Officer, National Center for Chronic Disease Prevention and Health Promotion, CDC, 5770 Buford Highway NE, Mailstop K52, Atlanta, Georgia, 30341, Telephone (770) 488-4518, Fax (770) 488-4760. Email: acbcyw@cdc.gov.

SUPPLEMENTARY INFORMATION:

How to register for the meeting: All ACBCYW Meeting participants must register online at least 7 business days in advance at https://www.cdc.gov/cancer/breast/what_cdc_is_doing/conference.htm. Please complete all the required fields before submitting your registration, and submit no later than July 31, 2018.

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters to be Considered: The agenda will include discussions on current and emerging topics related to breast cancer in young women. These will include public health communication, breast cancer in young women digital and social media campaign, CDC updates, and updates from the field. Agenda items are subject to change as priorities dictate.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-13047 Filed 6-15-18; 8:45 am]

BILLING CODE 4163-19-P